NATIONAL CREDIT UNION ADMINISTRATION

Notice of Meeting

Time and Date: 10 a.m., Thursday, April 20, 2006.

Place: Board Room, 7th Floor, Room 7047, 1775 Duke Street, Alexandria, VA 22314-3428.

Status: Open.

Matters to be Considered:

1. Quarterly Insurance Fund Report.

2. Final Revisions to the Federal Credit Union Bylaws.

3. Final Rule: Part 707 of NCUA's Rules and Regulations, Truth in Savings.

Recess: 11.15 a.m.

Time and Date: 11:30 a.m., Thursday, April 20, 2006.

Place: Board Room, 7th Floor, Room 4047, 1775 Duke Street, Alexandria, VA 22314-3428.

Status: Closed.

Matters to be Considered:

1. Administrative Action under Section 208 of the Federal Credit Union Act. Closed pursuant to Exemptions (8) and (9)(A)(ii).

2. Merger under Parts 704 and 708 of NCUA's Rules and Regulations. Closed pursuant to Exemption (8).

FOR FURTHER INFORMATION CONTACT: Mary Rupp, Secretary of the Board, Telephone: 703-518-6304.

Mary Rupp,
Secretary of the Board.

[FR Doc. 06-3680 Filed 4-13-06; 2:35 pm]

BILLING CODE 7535-01-M